DEPARTMENT OF JUSTICE

Notice of Lodging of Consent Decree Under the Clean Air Act

Correction

In notice document 07-6242 beginning on page 74330 in the issue of Monday, December 31, 2007, make the following correction:

On page 74331, in the first column, in the second full paragraph, in the 11th and 12th lines, “http://www. usdoj.gov/enrd/Consent_Decrees.html” should read “http://www.usdoj.gov/enrd/Consent_Decrees.html”.

[FR Doc. C7-6242 Filed 1-14-08; 8:45 am]

BILLING CODE 1505-01-D

DEPARTMENT OF JUSTICE

Notice of Lodging of Proposed Consent Decree Under the Clean Water Act

Correction

In notice document 07-6243 beginning on page 74330 in the issue of Monday, December 31, 2007, make the following correction:

On page 74330, in the second column, in the second full paragraph, in the 13th and 14th lines, “pubcomment-ees.enrd@usdj.gov” should read “pubcomment-ees.enrd@usdoj.gov”.

[FR Doc. C7-6243 Filed 1-14-08; 8:45 am]

BILLING CODE 1505-01-D